GENERAL SERVICES ADMINISTRATION

[Notice CSE-2016-03; Docket No. 2016-0002; Sequence 8]

GSA Labor-Management Relations Council Meeting Cancellation

AGENCY: Office of Human Resources Management (OHRM), General Services Administration (GSA).

ACTION: Notice of meeting cancellation.

SUMMARY: The GSA Labor-Management Relations Council (GLMRC) previously announced in its March 25, 2016 Federal Register notice that it planned to hold a meeting Tuesday, April 12, 2016 and Wednesday, April 13, 2016. The meeting is cancelled.

DATES: April 13, 2016.

FOR FURTHER INFORMATION CONTACT: Ms. Paula Lucak, GLMRC Designated Federal Officer (DFO) at the General Services Administration, OHRM, 1800 F Street NW., Washington, DC. 20405, telephone at 202-739-1730, or email at gmlrc@gsa.gov.

SUPPLEMENTARY INFORMATION: The GSA Labor-Management Relations Council (GLMRC) previously announced in its March 25, 2016 Federal Register notice (81 FR 16183) that it planned to hold a meeting Tuesday, April 12, 2016 and Wednesday, April 13, 2016. The meeting is cancelled. A new notice will be posted in the Federal Register announcing the date and time when rescheduled.

Dated: April 7, 2016.
Renee Y. Jones,
Office of Human Resources Management, OHRM Director (Acting), Office of HR Strategy and Services, Center for Talent Engagement (COE4), General Services Administration.

[FR Doc. 2016-08463 Filed 4-12-16; 8:45 am]

BILLING CODE 6820-34-P